DEPARTMENT OF AGRICULTURE

Food and Nutrition Service

Agency Information Collection Activities: Proposed Collection; Comment Request-Supplemental Nutrition Assistance Program (SNAP), Store Applications, Forms FNS-252, 252-E, 252-R, 252-2, and 252-C

AGENCY: Food and Nutrition Service (FNS), USDA.

ACTION: Notice.

SUMMARY: In accordance with the Paperwork Reduction Act of 1995, this notice invites the general public and other public agencies to comment on this proposed information collection. This collection is a revision of a currently approved collection in the Supplemental Nutrition Assistance Program and concerns Retail Store Applications (Forms FNS-252; FNS-252-E; and FNS-252-R).

DATES: Written comments must be received on or before February 22, 2011 to be assured of consideration.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility and clarity of the information to be collected; and (d) ways to minimize the burden of the collection of information on those who are to respond, including use of appropriate automated, electronic, mechanical, or other technological collection techniques or other forms of information technology.

Comments may be sent to: Ronald Ward, Food and Nutrition Service, U.S. Department of Agriculture, 3101 Park Center Drive, Room 426, Alexandria, VA 22302. Comments may also be submitted via fax to the attention of Ronald Ward at (703) 305-1863 or via e-mail to: BRDHQ-WEB@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 426, Alexandria, Virginia 22302.

All responses to this notice will be summarized and included in the request for Office of Management and Budget approval. All comments will be a matter of public record.

FOR FURTHER INFORMATION CONTACT: Requests for additional information or copies of this information collection should be directed to Ronald Ward at BRDHQ-WEB@fns.usda.gov.

SUPPLEMENTARY INFORMATION: Title: Supplemental Nutrition Assistance Program (SNAP)—Store Applications.

Form Number: FNS-252, 252-E, 252-R, 252-2, and 252-C.

OMB Number: 0584-0008 and 0584-0553.

Expiration Date: July 31, 2011.

Type of Request: Revision of a currently approved collection of information.

Abstract: Section 9(a) of the Food and Nutrition Act of 2008, as amended, (the Act) (7 U.S.C. 2018(a)) requires that FNS determine the eligibility of retail food stores and certain food service organizations to accept SNAP benefits and to monitor them for compliance and continued eligibility.

Part of FNS' responsibility is to accept applications from retail food stores that wish to participate in SNAP, review the applications in order to determine whether or not applicants meet eligibility requirements, and make determinations whether to grant or deny authorization to accept SNAP benefits. There are currently four application forms designed for that purpose approved under the Office of Management and Budget (OMB) No. 0584-0008—the Supplemental Nutrition Assistance Program Application for Stores, Form FNS-252 and FNS-252-E (paper and online version, respectively); the Meal Service Application, Form FNS-252-2; and the Corporate Supplemental Application, Form FNS-252-C used for individual (chain) stores under a corporation.FNS is also responsible for reviewing retail food store applications at least once every five years to ensure that each firm is under the same ownership and continues to meet eligibility guidelines. In order to accomplish this regulatory requirement, FNS collects information from retail food stores using the Supplemental Nutrition Assistance Program Application for Stores—Reauthorization, Form FNS-252-R. This information collection is approved under OMB No. 0584-0553. In our previous submission to OMB, FNS received approval to merge this information collection with OMB No. 0584-0008, which FNS intends to do at this time.

FNS is also enhancing Forms FNS-252 and FNS-252-E in order to (1) Clarify questions 16 and 17 regarding sales information; (2) expand the inventory stock examples provided in question 18; (3) re-word or re-phrase written instructions and on-line help screens; and (4) visually enhance the application by making design and formatting changes. The proposed revisions do not increase the hourly burden estimate on respondents.

FNS also intends to revise Form FNS-252-R. The purposes of the revisions are to (1) Clarify questions 5 and 6; (2) add “Yes/No” boxes in question 8; (3) expand the inventory stock examples provided in question 5; (4) revise the certification statement in the general instruction section to re-phrase and clarify information requested; and (5) add two additional questions: the number of check-out registers, and the option for retailers to provide an email address. In our previous submission to OMB, we estimated the hourly burden to be 7 minutes. We estimate the new hourly burden estimate to increase by 10 seconds, and the new burden to be, on average, 7.10 minutes, on average.

Affected Public: Business for Profit; Retail food stores.

Estimated Number of Respondents: The total estimated number of respondents is 90,532.

Estimated Number of Responses per Respondent: Respondents complete either 1 application form at initial authorization or 1 reauthorization application, as appropriate, for a total of 1 response each.

Estimated Total Annual Responses: 68,893.80.

Estimated Time per Response: 10.59 minutes (0.18317 hours). The estimated time response varies from 1 minute to 11 minutes depending on respondent group, as shown in the table below.

Table A—Reporting Estimate of Hour Burden

SUMMARY OF BURDEN—#0584-0008
Affected public | (a) Description of collection activity | (b) Form Number | (c) Number respondents | (d) Number responses per respondent | (e) Total annual responses (cxd) | (f) Hours per response | (g) Total burden (exf)
Reporting
Retailers | Applications Received | 252 | 15,299.83 | 1.00 | 15,299.83 | 0.18370 | 2,810.58
| Applications Received | 252-E | 20,281.17 | 1.00 | 20,281.17 | 0.16700 | 3,386.96
| E-Authentication | 252-E | 20,281.17 | 1.00 | 20,281.17 | 0.13360 | 2,709.56
| Applications Received | 252-2 | 968 | 1.00 | 968.00 | 0.18370 | 177.82
| Applications Received | 252-C | 6,961 | 1.00 | 6,960.80 | 0.08350 | 581.23
| Store Visits |  | 25,384 | 1.00 | 25,384.00 | 0.01670 | 423.91
| Reauthorization | 252-R | 21,638 | 1.00 | 21,638.00 | 0.11690 | 2,529.48
| Total Reporting Burden |  | 90,531.80 | 0.76099 | 68,893.80 | 0.18317 | 12,619.54

| Number of respondents | Estimate annual responses per respondent | Estimate total annual responses | Estimate hours per response | Estimate total annual burden for this ICR
SUMMARY OF BURDEN FOR THIS COLLECTION | 90,532 | 0.76099 | 68,893.80 | 0.18317 | 12,619.54

Dated: December 16, 2010.
Julia Paradis,
Administrator, Food and Nutrition Service.

[FR Doc. 2010-32291 Filed 12-22-10; 8:45 am]

BILLING CODE 3410-30-P